DEPARTMENT OF STATE

[Public Notice 11155]

60-Day Notice of Proposed Information Collection: Individual, Corporate or Foundation, and Government Donor Letter Applications

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to October 5, 2020.

ADDRESSES: You may submit comments by any of the following methods:

• Web: Persons with access to the internet may comment on this notice by going to www.Regulations.gov. You can search for the document by entering “Docket Number: DOS-2020-0031” in the Search field. Then click the “Comment Now” button and complete the comment form.

• Email: WallaceCR2@state.gov.

• Regular Mail: Send written comments to U.S. Department of State, 2201 C Street, Room 1821, Washington, DC 20520.

You must include the DS form number (if applicable), information collection title, and the OMB control number in any correspondence.

FOR FURTHER INFORMATION CONTACT: Direct requests for additional information regarding the collection listed in this notice, including requests for copies of the proposed collection instrument and supporting documents, to Chanel Wallace, 2201 C Street NW, Room 1821, Washington, DC 20520, who may be reached on (202) 647-7730 or at WallaceCR2@state.gov.

SUPPLEMENTARY INFORMATION:

• Title of Information Collection: Individual, Corporate or Foundation and Government Donor Letter Application.

• OMB Control Number: 1405-0218.

• Type of Request: Extension of a Currently Approved Collection.

• Originating Office: Office of Emergencies in the Diplomatic and Consular Service (EDCS).

• Form Number: Donor Form—Individual (DS-4273), Donor Form—Corporate or Foundation (DS-4272), Donor Form—Government (DS-4271).

• Respondents: Individuals, Corporations, or Foundations that make donations to the Department.

• Estimated Number of Respondents: 4,079.

• Estimated Number of Responses: 4,079.

• Average Time per Response: 10 minutes.

• Total Estimated Burden Time: 680 hours.

• Frequency: On occasion.

• Obligation to Respond: Mandatory.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Office of Emergencies in the Diplomatic and Consular Service (EDCS) manages the solicitation and acceptance of gifts to the U.S. Department of State. The information requested via donor letters is a necessary first step to accepting donations. The information is sought pursuant to 22 U.S.C. 2697, 5 U.S.C. 7324 and 22 CFR, Part 3) and will be used by EDCS's Gift Fund Coordinator to demonstrate the donor's intention to donate either an in-kind or monetary gift to the Department. This information is mandatory and must be completed before the gift is received by the Department.

Methodology

The information collection forms will be available to program offices who have authority to solicit or accept donations on behalf of the Department. Donors can also request and complete hard copies of the form if internet access is not available. After completion, all forms are mailed to EDCS.

Crystal F. Jobe,
Gift Funds and K Funds Coordinator.

[FR Doc. 2020-16957 Filed 8-3-20; 8:45 am]

BILLING CODE 4710-37-P